FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 3, 2009.

A. Federal Reserve Bank of Chicago (Colette A. Fried, Assistant Vice President) 230 South LaSalle Street, Chicago, Illinois 60690-1414:

1. Roger and Mary Angela Baker, Cedar Rapids, Iowa, individually as husband and wife, and as a group acting in concert with Bruce and Janice Anderson, Marion, Iowa; The Elizabeth K. Dummermuth Revocable Trust, Elizabeth K. Dummermuth, Trustee, Cedar Rapids, Iowa; Kay S. Hill; Kent M. Hill; Brian C. and Molly E. Scott; Thomas C. and Clare L. Slattery; and Monica W. Vernon, all of Cedar Rapids, Iowa; to acquire control of City State Bancorporation, Inc., Central City, Iowa, and thereby indirectly control of M.S.B. Corporation and City State Bank, both of Central City, Iowa.

Board of Governors of the Federal Reserve System, October 16, 2009.
Robert deV. Frierson,
Deputy Secretary of the Board.

[FR Doc. E9-25308 Filed 10-20-09; 8:45 am]

BILLING CODE 6210-01-S